ENVIRONMENTAL PROTECTION AGENCY

[FRL-7400-7]

Draft Chesapeake Bay Comprehensive Oyster Management Plan; Availability

The U.S. Environmental Protection Agency's Chesapeake Bay Program Office, on behalf of the partners of the Chesapeake Bay Program, announces the availability of the Draft Chesapeake Bay Comprehensive Oyster Management Plan for a 30-day period of public review and comment. The Draft Plan addresses both habitat restoration and oyster fishery management. It emphasizes biologically based, strategic decision making, enables an adaptive management approach, and provides for better coordination among key agencies, organizations, and institutions involved in oyster restoration in Maryland and Virginia waters of Chesapeake Bay and its tidal tributaries. The Chesapeake Bay oyster partners include the U.S. Environmental Protection Agency, U.S. Army Corps of Engineers, National Oceanic and Atmospheric Administration, Maryland Department of Natural Resources, Virginia Marine Resources Commission, Maryland Oyster Recovery Partnership, Virginia Oyster Heritage Program, and Chesapeake Bay Foundation. Following receipt of comments, a final Draft Plan will be circulated to Chesapeake Bay Program signatory partners for approval. It is expected that the final Plan will be adopted by the Chesapeake Executive Council in 2003. On November 4, 2002, the Draft Plan will be available on-line at the EPA Region III Web site www.epa.gov/r3chespk/, or by regular mail from the EPA Chesapeake Bay Program Office (Phone: (410) 267-5700).

Comments should be postmarked no later than December 4, 2002. Comments can be sent either by email to fritz.mike@epa.gov or by regular mail to Michael Fritz, U.S. EPA, 410 Severn Avenue, Suite 109, Annapolis, MD 21403. Further information about the Chesapeake Bay Program and oysters in the bay is available at www.chesapeakebay.net.

Diana Esher,
Deputy Director, Chesapeake Bay Program Office.

[FR Doc. 02-27346 Filed 10-25-02; 8:45 am]

BILLING CODE 6560-50-P